DEPARTMENT OF THE INTERIOR

Bureau of Land Management

[LLUT91000-09-L10400000-PH0000-24-1A00]

Call for Nomination for Utah's Resource Advisory Council

AGENCY: Bureau of Land Management, Department of Interior.

ACTION: Call for Nomination for Utah's Resource Advisory Council.

SUMMARY: The purpose of this notice is to request public nominations to fill one position in Category Three, (Elected Official), for Utah's Resource Advisory Council. The Federal Land Policy and Management Act (FLPMA) (43 U.S.C. 1730) directs the Secretary of the Interior to involve the public in planning and issues related to management of lands administered by BLM. Section 309 of FLPMA directs the Secretary to select 10 to 15 member citizen-based advisory councils, which are consistent with the requirements of the Federal Advisory Committee Act (FACA). RACs are found at 43 CFR part 1784.

DATES: BLM will accept public nominations until February 5, 2009. Applicants are requested to submit a completed nomination form and nomination letters to the address listed below.

FOR FURTHER INFORMATION CONTACT: Contact Sherry Foot, Special Programs Coordinator, Utah State Office, Bureau of Land Management, 440 West 200 South, Suite 500, Salt Lake City, Utah 84101; phone (801) 539-4195.

SUPPLEMENTARY INFORMATION: The Bureau of Land Management's (BLM) Utah Resource Advisory Council is hosting a call for nominations for the position of Elected Official (representatives of state, county, or local elected office) on the advisory council. Upon appointment, the individual selected to this position will fill the seat until September 19, 2010, the remainder of this position's term. Individuals may nominate themselves or others. Nominees must be residents of Utah. BLM will evaluate nominees based on their education, training, experience, and their knowledge of the geographical area of the RAC. Nominees should demonstrate a commitment to collaborative resource decision making.

The following must accompany nominations:

• Letters of reference from represented interest or organizations;

• A completed background information nomination form; and,

• Any other information that highlights the nominee's qualifications.

Jeff Rawson,
Acting State Director.

[FR Doc. E8-30354 Filed 12-19-08; 8:45 am]

BILLING CODE 4310-DQ-P